DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Room 4211, U.S. Department of Commerce, 14th Street and Constitution Avenue, N.W., Washington, D.C.

Docket Number: 00-029. Applicant: National Institute of Standards and Technology, U.S. Department of Commerce, 100 Bureau Drive, MS 8221, Gaithersburg, MD 20899-8221. Instrument: Vacuum Balance and Vacuum Chamber. Manufacturer: Metrotec Engineering ag, Switzerland. Intended Use: The instrument will be used for developing methods for ultra-precise vacuum mass measurement and for characterization of the stability of mass standards under vacuum. These new capabilities will play a crucial and indispensable role in the ongoing research to replace the artifact-based definition of the unit of mass with one based on fundamental constants. Application accepted by Commissioner of Customs: September 28, 2000.

Docket Number: 00-032 Applicant: The University of Michigan, Environmental Health Sciences Department, School of Public Health, 109 S. Observatory, Ann Arbor, MI 48109-2029. Instrument: Aerosol Generator. Manufacturer: Topas GmbH, Germany. Intended Use: The instrument is intended to be used for the generation of particulate aerosols in a small-scale wind tunnel. The aerosols, composed of dusts of different materials including glass beads, Arizona road dust, and fused alumina will be used for the study and development of personal aerosol samplers. Experiments will consist of testing the efficiency of polyurethane preselector foams and testing of personal aerosol samplers to determine aspiration efficiency. The objective of this research is to apply the knowledge gained in previous research to the development of new small-scale, user-friendly personal sampling systems for the inhalable and thoracic fractions of airborne particles. In addition, the instrument will be used for educational purposes in various environmental and industrial health courses involving laboratory research for students at various stages in the Ph.D. program. Application accepted by Commissioner of Customs: September 28, 2000.

Frank W. Creel,
Director, Statutory Import Programs Staff.

[FR Doc. 00-26764 Filed 10-17-00; 8:45 am]

BILLING CODE 3510-DS-P